ENVIRONMENTAL PROTECTION AGENCY

[ER-FRL-8591-3]

Environmental Impacts Statements; Notice of Availability

Responsible Agency: Office of Federal Activities, General Information (202) 564-7167 or http://www.epa.gov/compliance/nepa/.

Weekly Receipt of Environmental Impact Statements Filed 03/02/2009 Through 03/06/2009 Pursuant to 40 CFR 1506.9

EIS No. 20090060, Final EIS, COE, CA, University of California (UC) Merced Campus and University Community Project, Development of a Major Research University, To Allow for the Discharge of Fill Material into 76.7 Acres of Wetlands, U.S. Army COE Section 404 Permit, Merced County, CA, Wait Period Ends: 04/13/2009, Contact: Nancy Haley 916-557-7731.

EIS No. 20090061, Draft EIS, AFS, OR, D-Bug Hazard Reduction Timber Sales Project, To Lessen the Fuel and Safety Hazards Associated with the On-going Outbreak of Mountain Pine Beetles, Diamond Lake Ranger District, Umpqua National Forest, Douglas County, OR, Comment Period Ends: 04/27/2009, Contact: Debbie Anderson 541-957-3466.

EIS No. 20090062, Draft EIS, FRC, 00, Catawba-Wateree Hydroelectric Project (FERC No. 2232), Application for Hydroelectric License, Catawba and Wateree Rivers in Burke, McDowell, Caldwell, Catawba, Alexander, Iredell, Mecklenburg, Lincoln and Gaston Counties, NC and York, Lancaster, Chester, Fairfield and Kershaw Counties, SC, Comment Period Ends: 04/27/2009, Contact: Patricia Schaub 1-866-208-3372.

EIS No. 20090063, Final Supplement, UAF, MA, Pave Paws Early Warning Radar Operation Project, Continued Operation of the Solid-State Phased-Array Radar System (SSPARS), also known as Pave, Phased Array Warning Systems (PAWS), Cape Cod Air Force Station, MA, Wait Period Ends: 04/13/2009, Contact: Lynne Neumann 703-614-0237.

EIS No. 20090064, Draft EIS, FTA, CA, Silicon Valley Rapid Transit Corridor Project, Proposes to Construct an Extension of the Bay Area Rapid Transit (BART) Rail System from Warm Spring Station in Fremont to Santa Clara County, CA, Comment Period Ends: 04/27/2009, Contact:

James Barr 202-493-2633.

EIS No. 20090065, Draft EIS, COE, NC, Western Wake Regional Wastewater Management Facilities, Proposed Construction of Regional Wastewater Pumping, Conveyance, Treatment, and Discharge Facilities to Serve the Towns of Apex, Cary, Holly Springs and Morrisville, Research Triangle Park, Wake County, NC, Comment Period Ends: 04/27/2009, Contact: Henry Wicker 910-251-4930.

Amended Notices

EIS No. 20090054, Draft EIS, AFS, CA, Stanislaus National Forest Motorized Travel Management (17305) Plan, Implementation, Stanislaus National Forest, CA, Comment Period Ends: 05/05/2009, Contact: Sue Warren 209-532-3671 Ext. 321.

Revision to FR Notice Published 03/06/2009: Correction to the State from NV to CA.

Dated: March 10, 2009.
Robert W. Hargrove,
Director, NEPA Compliance Division, Office of Federal Activities.

[FR Doc. E9-5534 Filed 3-12-09; 8:45 am]

BILLING CODE 6560-50-P